EXPORT-IMPORT BANK

[Public Notice 140]

Agency Information Collection Activities: Final Collection; Comment Request

AGENCY: Export-Import Bank of the U.S.

ACTION: Submission for OMB review and comments request.

Form Title: Competitiveness Report Survey EIB 00-02. OMB 3048-003.

SUMMARY: The Export-Import Bank of the United States (Ex-Im Bank), as a part of its continuing effort to reduce paperwork and respondent burden, invites the general public and other Federal Agencies to comment on the proposed information collection, as required by the Paperwork Reduction Act of 1995. Our customers will be able to submit this form on paper or electronically.

The purpose of this survey is to fulfill the statutory mandate (Export-Import Act of 1945, as amended, 12 U.S.C. 635) which directs the Export-Import Bank to report annually to Congress any action taken toward providing export credit programs that are competitive with those offered by official foreign export credit agencies.

The following changes have been made to the survey:

1. Added question—Years in Business in Part 1, Question 1.

2. Removed “Medium-term Loan” as an option in Part 1, Question 4.

3. Added question—How many applications did your organization file with Ex-Im Bank in CY 2009 in Part 1, Question 2.

4. Changed the option “Never” to “N/A” in Part 2, Questions 1 and 2.

5. Removed the option “N/A” in “Other” in Part 2, Questions 1 and 2.

6. Added “Services” category to Part 3, Question 3.

7. Added “Local Costs” to Part 3, Question 5.

We received one comment from the public on our sixty day Federal Register Notice. The comment requested that we re-evaluate the length of time it takes to complete the form. We have adjusted our estimates to address this comment.

DATES: Comments should be received on or before February 11, 2010 to be assured of consideration.

ADDRESSES: Comments maybe submitted through http://www.regulations.gov or mailed to Office of Management and Budget, Office of Information and Regulatory Affairs, 725 17th Street, NW, Washington, DC 20038.

OMB Number 3048-0004.

SUPPLEMENTARY INFORMATION: Titles and Form Number: EIB 00-02 Competitiveness Report Survey.

OMB Number: 3048-003.

Type of Review: Regular.

Need and Use: This information will be used to report annually to Congress any action taken toward providing export credit programs that are competitive with those offered by official foreign export credit agencies.

Affected Public: This form affects entities involved in the export of U.S. goods and services.

Annual Number of Respondents: 125.

Estimated Time per Respondent: 0.25 hours.

Government Annual Burden Hours: 6.25.

Frequency of Reporting or Use: Yearly.

Sharon A. Whitt,
Agency Clearance Officer.

[FR Doc. 2010-365 Filed 1-11-10; 8:45 am]

BILLING CODE 6690-01-P